DEPARTMENT OF ENERGY

Federal Energy Regulatory Commission

Combined Notice of Filings #1

January 22, 2010.

Take notice that the Commission received the following electric corporate filings:

Docket Numbers: EC10-40-000.

Applicants: BlackRock, Inc.

Description: Request for Authorization to Acquire Securities Under Section 203(a)(2) of the Federal Power Act of BlackRock, Inc.

Filed Date: 01/20/2010.

Accession Number: 20100120-5116.

Comment Date: 5 p.m. Eastern Time on Wednesday, February 10, 2010

Docket Numbers: EC10-41-000.

Applicants: Wolverine Power Supply Cooperative, Inc., FirstEnergy Generation Corp.

Description: Application of Wolverine Power Supply Cooperative, Inc. and FirstEnergy Generation Corp. for Order Authorizing Transaction Under Section 203 of the Federal Power Act, and Request for Waivers.

Filed Date: 01/21/2010.

Accession Number: 20100121-5067.

Comment Date: 5 p.m. Eastern Time on Thursday, February 11, 2010.

Take notice that the Commission received the following electric rate filings:

Docket Numbers: ER08-1113-007.

Applicants: California Independent System Operator Corporation.

Description: California Independent System Operator Corporation submits filing in compliance with the FERC 12/17/09 Order on Rehearing etc.

Filed Date: 01/19/2010.

Accession Number: 20100120-0213.

Comment Date: 5 p.m. Eastern Time on Tuesday, February 09, 2010.

Docket Numbers: ER09-88-004.

Applicants: Southern Company Services, Inc.

Description: Alabama Power Company et al. submits Sixth Revised Sheet 1 et al. to FERC Electric Tariff, Second Revised Volume 4.

Filed Date: 01/19/2010.

Accession Number: 20100120-0210.

Comment Date: 5 p.m. Eastern Time on Tuesday, February 09, 2010.

Docket Numbers: ER09-1254-002.

Applicants: Southwest Power Pool, Inc.

Description: Southwest Power Pool, Inc submits compliance filing.

Filed Date: 01/19/2010.

Accession Number: 20100120-0212.

Comment Date: 5 p.m. Eastern Time on Tuesday, February 09, 2010.

Docket Numbers: ER10-35-001.

Applicants: Xcel Energy Services Inc.

Description: Public Service Company of Colorado et al. submit various executed nonconfirming Service Agreements.

Filed Date: 01/15/2010.

Accession Number: 20100120-0220.

Comment Date: 5 p.m. Eastern Time on Friday, February 05, 2010.

Docket Numbers: ER10-47-003.

Applicants: Geodyne Energy, L.L.C.

Description: Geodyne Energy, LLC submits the Petition for Acceptance of Rate Schedule, Waivers and Blanket Authority for Geodyne.

Filed Date: 01/20/2010.

Accession Number: 20100120-0226.

Comment Date: 5 p.m. Eastern Time on Wednesday, February 10, 2010.

Docket Numbers: ER10-86-001.

Applicants: Midwest Independent Transmission System Operator, Inc.

Description: Midwest Independent Transmission System Operator, Inc submits compliance filing addressing the directives in the Commission's Dec. 18 Order and providing the associated revisions to the Midwest ISO etc.

Filed Date: 01/19/2010.

Accession Number: 20100120-0211.

Comment Date: 5 p.m. Eastern Time on Tuesday, February 09, 2010.

Docket Numbers: ER10-377-001.

Applicants: Elm Creek Wind II LLC.

Description: Elm Creek Wind II LLC submits a substitute original sheet 1 to FERC electric tariff, original volume 1.

Filed Date: 01/19/2010.

Accession Number: 20100120-0215.

Comment Date: 5 p.m. Eastern Time on Tuesday, February 09, 2010.

Docket Numbers: ER10-378-001.

Applicants: Buffalo Ridge II LLC.

Description: Buffalo Ridge II LLC submits a substitute original sheet 1 to FERC electric tariff, original volume 1.

Filed Date: 01/19/2010.

Accession Number: 20100120-0214.

Comment Date: 5 p.m. Eastern Time on Tuesday, February 09, 2010.

Docket Numbers: ER10-434-001.

Applicants: CPI USA North Carolina LLC.

Description: CPI USA North Carolina LLC submits Original Sheet 1 et al. to FERC Electric Tariff, First revised Volume 1.

Filed Date: 01/19/2010.

Accession Number: 20100120-0216.

Comment Date: 5 p.m. Eastern Time on Tuesday, February 09, 2010.

Docket Numbers: ER10-435-001.

Applicants: CPIDC, Inc.

Description: CPIDC resubmits Original Sheet 1 et al. to FERC Electric Tariff, Second Revised Volume 1.

Filed Date: 01/19/2010.

Accession Number: 20100120-0218.

Comment Date: 5 p.m. Eastern Time on Tuesday, February 09, 2010.

Docket Numbers: ER10-436-001.

Applicants: CPI Energy Services (US) LLC.

Description: CPI Energy Services, LLC submits Notice of Name Change and Succession.

Filed Date: 01/19/2010.

Accession Number: 20100120-0217.

Comment Date: 5 p.m. Eastern Time on Tuesday, February 09, 2010.

Docket Numbers: ER10-441-001.

Applicants: PacifiCorp.

Description: PacifiCorp submits an Amended and Restated Interconnection Agreement dated 11/16/09 etc.

Filed Date: 01/20/2010.

Accession Number: 20100120-0225.

Comment Date: 5 p.m. Eastern Time on Wednesday, February 10, 2010.

Docket Numbers: ER10-468-001.

Applicants: Google Energy LLC.

Description: Clarifying amendments to Google Energy LLC's Application for market based rate authority and granting of waiver and blanket authorizations.

Filed Date: 01/19/2010.

Accession Number: 20100120-0219.

Comment Date: 5 p.m. Eastern Time on Friday, January 29, 2010.

Docket Numbers: ER10-580-001.

Applicants: Silverhill Investments Corp.

Description: Silverhill Investments Corp submits corrected application for market-based rate authorization for related waiver and request for blanket authorization.

Filed Date: 01/13/2010.

Accession Number: 20100113-0220.

Comment Date: 5 p.m. Eastern Time on Monday, February 01, 2010.

Docket Numbers: ER10-607-000; ER10-608-000; ER10-609-000; ER10-610-000; ER10-611-000; ER10-612-000.

Applicants: Coalinga Cogeneration Company; Kern River Cogeneration Company; Salinas River Cogeneration Company; Mid-Set Cogeneration Company; Sycamore Cogeneration Company; Sargent Canyon Cogeneration Company.

Description: Coalinga Cogeneration Company submits a Petition for Order Accepting Market-Based Rate Tariff and for Waivers and Blankets Approvals.

Filed Date: 01/20/2010.

Accession Number: 20100120-0237.

Comment Date: 5 p.m. Eastern Time on Wednesday, February 10, 2010.

Docket Numbers: ER10-620-000.

Applicants: PacifiCorp.

Description: PacifiCorp submits a Memorandum of Understanding between PacifiCorp and Helper City under PacifiCorp FERC Electric Tariff First Revised Volume 6.

Filed Date: 01/20/2010.

Accession Number: 20100120-0224.

Comment Date: 5 p.m. Eastern Time on Wednesday, February 10, 2010.

Docket Numbers: ER10-622-000.

Applicants: Macquarie Energy LLC.

Description: Macquarie Energy, LLC submits a notice of succession to Macquarie Cook Power Inc.

Filed Date: 01/20/2010.

Accession Number: 20100120-0239.

Comment Date: 5 p.m. Eastern Time on Wednesday, February 10, 2010.

Docket Numbers: ER10-623-000; ER10-624-000; ER10-625-000.

Applicants: Puget Sound Energy, Inc.; Portland General Electric Company; Avista Corporation.

Description: Puget Sound Energy Inc et al. submits revisions to Section 13.8 and 14.6 of their respective Open Access Transmission Tariffs.

Filed Date: 01/20/2010.

Accession Number: 20100120-0238.

Comment Date: 5 p.m. Eastern Time on Wednesday, February 10, 2010.

Take notice that the Commission received the following electric securities filings:

Docket Numbers: ES10-18-000.

Applicants: Wolverine Power Supply Cooperative, Inc.

Description: Supplement to Application for Authorization of the Assumption of Liabilities and the Issuance of Securities Under Section 204 of the Federal Power Act by Wolverine Power Supply Cooperative, Inc.

Filed Date: 01/21/2010.

Accession Number: 20100121-5074.

Comment Date: 5 p.m. Eastern Time on Monday, February 1, 2010.

Docket Numbers: ES10-22-000.

Applicants: Rochester Gas & Electric Corporation.

Description: Rochester Gas and Electric Corporation's Supplemental to its Application for Authorization to Issue Short-Term Debt Under Section 204 of the Federal Power Act.

Filed Date: 01/21/2010.

Accession Number: 20100121-5077.

Comment Date: 5 p.m. Eastern Time on Thursday, February 11, 2010.

Docket Numbers: ES10-23-000.

Applicants: New York State Electric & Gas Corp.

Description: New York State Electric & Gas Corporation's Supplemental to its Application for Authorization to Issue Short-Term Debt Under Section 204 of the Federal Power Act.

Filed Date: 01/21/2010.

Accession Number: 20100121-5076.

Comment Date: 5 p.m. Eastern Time on Thursday, February 11, 2010.

Docket Numbers: ES10-24-000.

Applicants: Central Maine Power Company.

Description: Central Maine Power Company's Supplemental to its Application for Authorization to Issue Short-Term Debt Under Section 204 of the Federal Power Act.

Filed Date: 01/21/2010.

Accession Number: 20100121-5073.

Comment Date: 5 p.m. Eastern Time on Thursday, February 11, 2010.

Docket Numbers: ES10-25-000.

Applicants: Allegheny Generating Company.

Description: Application of Allegheny Generating Company for Authorization Under Section 204.

Filed Date: 01/19/2010.

Accession Number: 20100119-5208.

Comment Date: 5 p.m. Eastern Time on Tuesday, February 09, 2010.

Take notice that the Commission received the following public utility holding company filings:

Docket Numbers: PH08-23-001.

Applicants: Boralex Inc.

Description: Form FERC 65A of Boralex Inc.

Filed Date: 01/21/2010.

Accession Number: 20100121-5085.

Comment Date: 5 p.m. Eastern Time on Thursday, February 11, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-2084 Filed 2-1-10; 8:45 am]

BILLING CODE 6717-01-P